ENVIRONMENTAL PROTECTION AGENCY

[ER-FRL-6642-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 4, 2003 (68 FR 16511).

Draft EISs

ERP No. D-AFS-F65042-WI Rating EC2, Sunken Moose Project, Proposal to Restore and/or Maintain the Red and White Pine Communities, Washurn Ranger District, Chequamegon-Nicolet Forest, Bayfield County, WI.

Summary: EPA expressed environmental concerns relating to adverse impacts to interior forest species, habitat fragmentation and non-native invasive species.

ERP No. D-DOA-K36137-HI Rating EC2, Lahaina Watershed Flood Control Project, To Reduce Flooding and Erosion Problems, U.S. Army COE Section 404 and NPDES Permits, County of Maui, HI.

Summary: EPA expressed environmental concerns regarding the project's impacts on the nearshore marine environment, waters of the U.S., and water quality. In addition, EPA is concerned about the range of alternatives evaluated in the DEIS, and whether future development on adjacent lands have been incorporated into project design and evaluation of impacts.

ERP No. D-FHW-L40217-AK Rating EC2, South Extension of the Coastal Trail Project, Existing Tony Knowles Coastal Trail Extension from Kincaid Park through the Project Area to the Potter Weigh Station, U.S. Army COE Section 10 and 404 Permits Issuance, Municipality of Anchorage, Anchorage, Alaska.

Summary: EPA has environmental concerns with the proposed project, particularly concerning impacts to the aquatic environment. EPA recommends alignment modifications to further avoid and minimize adverse impacts. EPA requests further information regarding the affected environment, stream crossings, design detail for accommodating wildlife passage, siting or location clarifications, and other specifics.

ERP No. D-NOA-E91013-00 Rating EC1, Essential Fish Habitat Components of Amendment 13 to the Northeast Multispecies Fishery Management Plan, Selection of the Best Method of Minimizing Impacts of Groundfish Fishing on Essential Fish Habitats, New England Fishery Management Council, ME, NH, VT, MA, RI, CT, NY, NJ, DE, MD, VA, and NC.

Summary: EPA expressed environmental concern on numbers of traps, wet storage of traps and no tag accountability.

ERP No. D-NOA-G39038-LA Rating LO, Programmatic EIS—The Louisiana Regional Restoration Planning Program, Establishment and Implementation of Natural Resource Trust Mandates, LA.

Summary: EPA had no objection to the selection of the preferred alternative.

ERP No. D-NOA-L91017-00 Rating EO2, Programmatic EIS—Pacific Salmon Fisheries Management Plan, Off the Coasts of Southeast Alaska, Washington, Oregon and California, and the Columbia River Basin, Implementation, Magnuson-Stevens Act, AK, WA, OR, and CA.

Summary: EPA has environmental objections due to uncertainty about the effects of the alternatives on the 26 listed ESUs of salmon. The draft programmatic EIS does not clearly disclose critical information regarding the effect of the alternatives, does not provide identifiable evidence to support its conclusions that all alternatives would not jeopardize ESUs, and does not identify a preferred alternative. EPA recommends that analysis in the final programmatic EIS demonstrate that alternatives would protect and recover the 26 listed species of salmon affected by proposed activities.

ERP No. D-UAF-K11109-AZ Rating LO, Barry M. Goldwater Range (BMGR) Proposed Integrated Natural Resources Management Plan (INRMP), Implementation, Military Lands Withdrawal Act of 1999 (Pub. L. 106-65) and Sike Act (16 U.S.C. 670), Yuma, Pima and Maricopa Counties, AZ.

Summary: EPA expressed a lack of objections but recommended mitigation to protect water quality by restriction on driving recreational vehicles in desert washes.

ERP No. D-UAF-K11110-CA Rating EC2, Los Angeles Air Force Base Land Conveyance, Construction and Development Project, Transfer Portions of Private Development in Exchange for Construction of New Seismically Stable Facilities, Cities of El Sequndo and Hawthorne, Los Angeles County, CA.

Summary: EPA expressed environmental concerns regarding air toxic impacts and recommended additional analysis and mitigation to reduce air pollution.

ERP No. DB-AFS-L65155-00 Rating LO, Northern Spotted Owl Project, Updated information to Amend Selected Portions of the Aquatic Conservation Strategy, (Part of the Northwest Forest Plan), Protect and Restore Watersheds, CA, WA, and OR.

Summary: EPA has no objections to the proposed action. However, the final EIS should consider a more specific statement of project purpose, include additional data on existing conditions and recent Strategy actions in the Plan area, and a prediction of cumulative impacts based on key threshold levels.

Final EISs

ERP No. F-FHW-J40175-UT, Reference Post (RP) 13 Interchange and City Road Project, Construction of New Interchange at RP 13 between I-15 and City Road in Washington City, Funding, Washington County, UT.

Summary: EPA has environmental concerns regarding the lack of alternatives presented in the FEIS to meet the purpose and need of accommodating planned future growth. EPA continues to believe that, in this case, one build alternative is not sufficient for an adequate EIS.

ERP No. F-NPS-J65365-00, Glen Canyon National Area, Personal Watercraft Rule-Making, Implementation, Lake Powell, Coconino County, AZ and Garfield, Kane, San Juan and Wayne Counties, UT.

Summary: EPA continued to express environmental concerns about potential violations of State water quality standards and suggested a compliance strategy. While EPA commends the NPS for providing an improved preferred alternative there were other reasonable alternatives that should have been analyzed.

Dated: July 22, 2003.
Joseph C. Montgomery,
Director, NEPA Compliance Division, Office of Federal Activities.

[FR Doc. 03-19010 Filed 7-24-03; 8:45 am]

BILLING CODE 6560-50-U